DEPARTMENT OF HOUSING AND URBAN DEVELOPMENT

[Docket No. FR-4736 N-11]

Notice of Proposed Information Collection for Public Comment for Public and Indian Housing Information Center (PIC) Survey

AGENCY: Office of the Assistant for Public and Indian Housing, HUD.

ACTION: Notice.

SUMMARY: The proposed information collection requirement described below will be submitted to the Office of Management and Budget (OMB) for review, as required by the Paperwork Reduction Act. The Department is soliciting public comments on the subject proposal.

DATES: Comments Due Date: October 15, 2002.

ADDRESSES: Interested persons are invited to submit comments regarding this proposal. Comments should refer to the proposal by name and/or OMB Control Number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number). For hearing- and speech-impaired persons, this telephone number may be accessed via TTY (text telephone) by calling the Federal Information Relay Service at 1-800-877-8339 (toll-free).

SUPPLEMENTARY INFORMATION: The Department will submit the proposed information collection to OMB for review, as required by the Paperwork Reduction Act of 1995 (44 U.S.C. chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of the appropriate automated collection techniques or other forms of information technology, e.g., permitting electronic submissions of responses.

This Notice also Lists the Following Information:

Title of Proposal: Public and Indian Housing Information Center (PIC) Survey.

OMB Control Number: 2577-.

Description of the Need for the Information and Proposed Use: The Department of Housing and Urban Development's Office of Public and Indian Housing will conduct a survey designed to collect feedback from the PHA Staff on the Public Housing Information Center (PIC) and to use the feedback as a tool to improve PIC. To better assist the users of PIC the survey will provide the much-needed information to make the system more effective.

Agency form numbers: None.

Members of the Affected Public: Approximately 10,000 Pubic Housing Agency staff and approximately 600 Native American and Alaskan Tribal staff will be invited to participate in the Public and Indian Housing Information Center (PIC) survey.

Estimation of the Total Number of Hours Needed to Prepare the Information Collection including the Number of Respondents, Frequency of response, and hours of response: The survey will take its participants approximately 20 minutes to complete the survey. Approximately 30% of those invited to take the survey will voluntarily take it on an annual basis. In total, the Department expects this survey will have a total annual reporting burden of 1,060 hours.

Status of the Proposed Information Collection: New.

Authority: Section 3506 of the Paperwork Reduction Act of 1995, 44 U.S.C. chapter 35, as amended.

Dated: August 9, 2002.
Michael Liu,
Assistant Secretary for Public and Indian Housing.

BILLING CODE 4210-33-M

[FR Doc. 02-20799 Filed 8-15-02; 8:45 am]

BILLING CODE 4210-33-C